DEPARTMENT OF THE INTERIOR

Bureau of Land Management

[OR-057-1040-PH-GP1-0020]

OMB Approval Number 1004-XXXX; Information Collection Submitted to the Office of Management and Budget for Review Under the Paperwork Reduction Act

The Bureau of Land Management (BLM) has submitted the proposed collection of information listed below to the Office of Management and Budget (OMB) for approval under the provisions of the Paperwork Reduction Act (44 U.S.C. 3501 et seq.) On August 3, 2000, BLM published a notice in the Federal Register (65 FR 47796) requesting comment on this proposed collection. The comment period ended on October 2, 2000. BLM received no comments from the public in response to that notice. Copies of the proposed collection of information and related forms and explanatory material may be obtained by contacting the BLM clearance officer at the telephone number listed below.

OMB is required to respond to this request within 60 days but may respond after 30 days. For maximum consideration your comments and suggestions on the requirement should be made within 30 days directly to the Office of Management and Budget, Interior Department Desk Officer (1004-NEW), Office of Information and Regulatory Affairs, Washington, D.C. 20503. Please provide a copy of your comments to the Bureau Clearance Officer (WO-630), 1849 C St., N.W., Mail Stop 401 LS, Washington, D.C. 20240.

Nature of Comments

We specifically request your comments on the following:

1. Whether the collection of information is necessary for the proper functioning of the Bureau of Land Management, including whether the information will have practical utility;

2. The accuracy of BLM's estimate of the burden of collecting the information, including the validity of the methodology and assumptions used;

3. The quality, utility and clarity of the information to be collected; and

4. How to minimize the burden of collecting the information on those who are to respond, including the use of appropriate automated electronic, mechanical, or other forms of information technology.

Title: Bureau of Land Management's Program Evaluation for the National Riparian Service Team and Extended Riparian Network, OMB approval number: 1004-NEW.

Abstract: The Bureau of Land Management is proposing a new information collection for the purpose of conducting a program evaluation for the National Riparian Service Team (NRST) and the extended reparian network. The BLM will conduct surveys and interviews of individuals who work within or receive services from the interagency NRST or the extended riparian network. The information will allow the BLM to measure satisfaction and program effectiveness, and comply with the requirements and spirit of the Government Performance and Results Act of 1993 and Executive Order No. 12862. Questions will address the following areas: (1) Satisfaction with the team as a facilitator of cooperative riparian restoration/management; (2) program effectiveness (e.g., on-the-ground implementation and/or achievement of interim steps toward implementation of riparian management strategies; impact of thought process, PFC as a tool for creating a common vocabulary, for facilitating effective cooperation); and (3) general demographic information.

Bureau Form Number: None.

Frequency: Once every other year (biennial).

Description of Respondents: The respondents will be individuals who work with or receive services from the National Riparian Service Team or the extended riparian network, including: Federal, State, Local and Tribal Government employees; individuals affiliated with non-profit organizations; and members of the general public. Estimated completion time: (survey) 25 minutes/.42 hours per respondent (500 respondents), and (interview) 45 minutes/.75 hours per respondent (40 respondents).

Annual Responses: 540 (bennial).

Filing Fee Per Response: None.

Annual Burden Hours: 250 (biennial).

Bureau Clearance Officer: Michael Schwartz, 202-452-5033.

Dated: October 26, 2000.
Michael Schwartz,
BLM Information Collection Clearance Officer.

[FR Doc. 00-32097 Filed 12-15-00; 8:45 am]

BILLING CODE 4310-84-M